DEPARTMENT OF TRANSPORTATION

Federal Highway Administration

Notice of Intent To Prepare a Supplemental Environmental Impact Statement: Milwaukee County

AGENCY: Federal Highway Administration (FHWA), DOT.

ACTION: Notice of intent.

SUMMARY: The FHWA is issuing this notice to advise the public that a supplemental environmental impact statement (SEIS) will be prepared for a proposed freeway corridor improvement project on I-94 in Milwaukee County, Wisconsin.

FOR FURTHER INFORMATION CONTACT: Bethaney Bacher-Gresock, Environmental Program and Project Specialist, FHWA Wisconsin Division Office, City Center West, 525 Junction Road, Suite 8000, Madison, WI 53717; email bethaney.bacher-gresock@dot.gov; telephone: (608) 662-2119. Joshua LeVeque, Wisconsin Department of Transportation (WisDOT) Project Manager, WisDOT SE-Region Office, 141 NW Barstow Street, P.O. Box 798, Waukesha, WI 53188 email joshua.leveque@dot.wi.gov; telephone: (414) 750-1468.

SUPPLEMENTARY INFORMATION: The FHWA, in cooperation with the Wisconsin Department of Transportation (WisDOT), will prepare a SEIS in accordance with 23 CFR 771.130 for proposed improvements along approximately 3.5 miles of I-94 (70th Street-16th Street) in Milwaukee County, WI. The project includes the following interchanges: 68th Street/70th Street, Hawley Road, Mitchell Boulevard, the Stadium Interchange (I-94/WIS 175/Miller Park Way), 35th Street, and 25th/26th/28th Street. The Bluemound Road/Wisconsin Avenue/Wells Street interchange with WIS 175 is also included. The purpose of the project remains the same as the original EIS: To address the deteriorated condition of I-94, obsolete roadway and bridge design, existing and future traffic demand, and high crash rates. The SEIS will evaluate and provide additional analysis, if needed, on any new or changed impacts to the human and natural environment since the approval of the January 29, 2016 final EIS (FEIS). For example, potential changes in study area traffic patterns resulting from the pandemic, or potential changes in traffic patterns resulting from the construction of, or may result from, the identification of funding for transportation projects identified in the regional transportation improvement plan for the area. Also, as identified in the original EIS, FHWA and WisDOT propose funding for the Milwaukee County East-West Bus Rapid Transit project as traffic mitigation during the construction of the I-94 project.

The SEIS will follow the same process and format as the original EIS (i.e., draft, final, record of decision (ROD)), except that scoping is not required. Per 40 CFR 1506.13, the SEIS will follow Council on Environmental Quality regulations in effect prior to September 14, 2020. The original EIS and other project documents will be available on the I-94 project website http://www.wisconsindot.gov/94eastwest.

Public involvement is a critical component of the project development process and will occur throughout the development of the SEIS. The draft SEIS will be made available for public and agency review and comment prior to the public hearing. After public review of the draft SEIS and public hearing, FHWA and WisDOT will issue a final SEIS and ROD. The final SEIS and ROD may be issued as one combined document pursuant to 23 U.S.C. 139(n)(2) and 23 CFR 771.124, unless criteria are met for issuing the documents separately.

To ensure that the full range of issues related to the proposed action are identified, comments and suggestions are invited from all interested parties. Comments or questions concerning this proposed action can be directed to the FHWA or WisDOT contacts listed above.

(Catalog of Federal Domestic Assistance Program Number 20.205, Highway Planning and Construction. The regulations implementing Executive Order 12372 regarding intergovernmental consultation on Federal programs and activities apply to this program.)

Issued on: June 9, 2021.
Bethaney L. Bacher-Gresock,
Environmental Program and Project Specialist, Federal Highway Administration, Madison Wisconsin.

[FR Doc. 2021-12481 Filed 6-14-21; 8:45 am]

BILLING CODE 4910-22-P